DEPARTMENT OF LABOR

Mine Safety and Health Administration

30 CFR Parts 70, 71, 72, 75, and 90

RIN 1219-AB64

Lowering Miners' Exposure to Respirable Coal Mine Dust, Including Continuous Personal Dust Monitors

AGENCY: Mine Safety and Health Administration, Labor.

ACTION: Proposed rule; extension of comment period; request for comments.

SUMMARY: The Mine Safety and Health Administration (MSHA) is extending the comment period on the proposed rule addressing Lowering Miners' Exposure to Respirable Coal Mine Dust, Including Continuous Personal Dust Monitors. This extension gives commenters additional time to review and comment on the proposed rule. The proposal was published on October 19, 2010 (75 FR 64412), and is available on MSHA's Web site at http://www.msha.gov/REGS/FEDREG/PROPOSED/2010Prop/2010-25249.pdf.

DATES: All comments must be received or postmarked by May 2, 2011.

ADDRESSES: Comments must be identified with “RIN 1219-AB64” and may be sent by any of the following methods:

(1) Federal e-Rulemaking Portal: http://www.regulations.gov. Follow the instructions for submitting comments.

(2) Electronic mail: zzMSHA-comments@dol.gov. Include “RIN 1219-AB64” in the subject line of the message.

(3) Facsimile: 202-693-9441. Include “RIN 1219-AB64” in the subject line of the message.

(4) Regular Mail: MSHA, Office of Standards, Regulations, and Variances, 1100 Wilson Boulevard, Room 2350, Arlington, Virginia 22209-3939.

(5) Hand Delivery or Courier: MSHA, Office of Standards, Regulations, and Variances, 1100 Wilson Boulevard, Room 2350, Arlington, Virginia. Sign in at the receptionist's desk on the 21st floor.

MSHA will post all comments on the Internet without change, including any personal information provided. Comments can be accessed electronically at http://www.msha.gov under the “Rules & Regs” link. Comments may also be reviewed in person at the Office of Standards, Regulations, and Variances, 1100 Wilson Boulevard, Room 2350, Arlington, Virginia. Sign in at the receptionist's desk on the 21st floor.

MSHA maintains a list that enables subscribers to receive e-mail notification when the Agency publishes rulemaking documents in the Federal Register. To subscribe, go to http://www.msha.gov/subscriptions/subscribe.aspx.

FOR FURTHER INFORMATION CONTACT: Roslyn B. Fontaine, Acting Director, Office of Standards, Regulations and Variances, MSHA, at Fontaine.Roslyn@dol.gov (E-mail), (202) 693-9440 (Voice), or (202) 693-9441 (Fax).

SUPPLEMENTARY INFORMATION:

Extension of Comment Period

On October 19, 2010 (75 FR 64412), MSHA published a proposed rule, Lowering Miners' Exposure to Respirable Coal Mine Dust, Including Continuous Personal Dust Monitors. In response to requests from interested parties, MSHA is extending the comment period from February 28, 2011, to May 2, 2011. In support of their requests, commenters noted the comprehensive, extensive nature of the proposal. All comments and supporting documentation must be received or postmarked by May 2, 2011.

Request for Comments

MSHA solicits comments from the mining community on all aspects of the proposed rule.

MSHA is interested in commenters' views on what actions should be taken by MSHA and the mine operator when a single shift respirable dust sample meets or exceeds the Excessive Concentration Value (ECV). In this situation, if operators use a CPDM, what alternative actions to those contained in the proposed rule would you suggest that MSHA and the operator take? MSHA is particularly interested in alternatives to those in the proposal and how such alternatives would be protective of miners.

Clarification

A commenter at the first public hearing suggested that the timeframe for miners' review of the Continuous Personal Dust Monitor (CPDM) Performance Plan be expanded. For clarification, MSHA, in developing the proposed rule, relied on the timeframe and process in the existing requirements for mine ventilation plans. In the proposal, MSHA did not intend to change the existing timeframe and process and stated that the proposed rule is consistent with ventilation plan requirements and would allow miners' representatives the opportunity to meaningfully participate in the process.

Dated: January 10, 2011.
Joseph A. Main,
Assistant Secretary of Labor for Mine Safety and Health.

[FR Doc. 2011-704 Filed 1-11-11; 11:15 am]

BILLING CODE 4510-43-P